ENVIRONMENTAL PROTECTION AGENCY

[ER-FRL-6668-6]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050198, ERP No. D-AFS-L65485-WA, Growden Dam Sherman Creek Restoration Project, and Forest Plan Amendment #28, Implementation, Colville National Forest, Ferry County, WA.

Summary: EPA had concerns about potential impacts to wetlands and recommended that additional mitigation be developed.

Rating EC2.

EIS No. 20050292, ERP No. D-USA-K11038-HI, Makua Military Reservation (MMR) Project, Proposed Military Training Activities, 25th Infantry Division (Light) and U.S. Army, HI.

Summary: EPA expressed environmental concerns regarding the introduction of additional weapons-related contaminants to soil and water, existing pollutant migration. EPA recommended the Army take advantage of pollution prevention opportunities and preventing further contaminant migration by removing priority sources of contamination and controlling run-on/runoff from contaminated areas.

Rating EC1.

EIS No. 20050295, ERP No. D-AFS-K65288-CA, Bald Mountain Project, Proposes to Harvest Trees Using Group and Individual Trees Selection Methods, Feather River Ranger District, Plumas National Forest, Plumas and Butte Counties, CA.

Summary: EPA expressed concerns with the limited scope of the cumulative impacts analysis and the lack of specific information on monitoring, project actions, funding, and existing conditions. EPA recommended rapid implementation of road improvements, staggered scheduling of projects and additional information on the above informational issues.

Rating EC2.

EIS No. 20050339, ERP No. D-AFS-J65450-SD, Deerfield Project Area, Proposes to Implement Multiple Resource Management Actions, Mystic Ranger District, Black Hills National Forest, Pennington County, South Dakota.

Summary: EPA expressed concern about (1) unmitigated and nonquantified soil erosion, runoff, and sediment losses; (2) potential water quality impacts from timber harvest and roads; (3) wildlife impacts to sensitive species; and (4) targeted harvest of older ponderosa pines important to sensitive wildlife.

Rating EC2.

EIS No. 20050346, ERP No. D-AFS-K02012-NV, White Pine & Grant-Quinn Oil and Gas Leasing Project, Exploration and Development, Humboldt-Toiyabe National Forest, Ely Ranger District, White Pine, Nye and Lincoln Counties, NV.

Summary: EPA expressed concern about impacts to water quality and habitat. EPA requested appropriate lease stipulations to protect these resources be included in the ROD.

Rating EC2.

EIS No. 20050349, ERP No. DB-COE-E36167-FL, Central and Southern Florida Project, Tamiami Trail Modifications, Modified Water Deliveries to Everglades National Park, Authorized Flow of Water from WCA-3B and the L-29 Canal North of the Tamiami Trail, Dade County, FL.

Summary: EPA had no objections to the proposed project. Rating LO.

Final EISs

EIS No. 20050261, ERP No. F-IBR-K39090-CA, Cental Valley Project Long-Term Water Service Contract Renewals—American River Division, Proposes to Renew Long-Term Water Service Contracts, Sacramento, Placer and El Dorado Counties, CA.

Summary: EPA continued to have concerns regarding the environmental impacts of potential increased water diversions from the American River on water quality, fisheries, aquatic ecosystems, and overall CVP operations and cumulative impacts.

EIS No. 20050343, ERP No. F-BLM-J67031-ND, West Mine Area, Freedom Mine, Federal Coal Lease Application, Mercer County, ND.

Summary: EPA expressed continued concern about the need to provide additional mitigation to compensate for the loss of fens and peatland wetlands.

EIS No. 20050363, ERP No. F-NPS-E61076-00, Low Country Gullah Culture Special Resource Study, Gullah Culture Preservation and Protection Analysis to Consider the Suitability and Feasibility for Inclusion in the National Park Service System, SC, NC, GA, and FL.

Summary: EPA has no objections to the proposed action.

Dated: October 18, 2005.
Ken Mittelholtz,
Environmental Protection Specialist, Office of Federal Activities.

[FR Doc. 05-21102 Filed 10-20-05; 8:45 am]

BILLING CODE 6560-50-P